DEPARTMENT OF LABOR

Employment and Training Administration

[TA-W-58,321]

Mckeehan Hosiery Mill, Inc., a Subsidiary Of Prewett Mills Distribution Center (Pmdc), Fort Payne, AL; Notice of Termination of Investigation

Pursuant to section 221 of the Trade Act of 1974, as amended, an investigation was initiated on November 14, 2005, in response to a worker petition filed by a company official on behalf of workers of McKeehan Hosiery Mill, Inc., a subsidiary of Prewett Mills Distribution Center (PMDC), Fort Payne, Alabama.

The petitioning worker group was certified eligible to apply for trade adjustment assistance and alternative trade adjustment assistance under petition number TA-W-52,564, which expired on October 14, 2005. The subject firm closed in September 2005 and workers separated are covered by TA-W-52,564. Consequently, further investigation in this case would serve no purpose, and the investigation has been terminated.

Signed in Washington, DC, this 21st day of November 2005.
Linda G. Poole,
Certifying Officer, Division of Trade Adjustment Assistance.

[FR Doc. E5-6880 Filed 12-5-05; 8:45 am]

BILLING CODE 4510-30-P